DEPARTMENT OF HEALTH AND HUMAN SERVICES

National Institutes of Health

National Institute of Nursing Research; Amended Notice of Meeting

Notice is hereby given of a change in the meeting of the National Institute of Nursing Research Initial Review Group, June 20, 2019 to June 21, 2019 which was published in the Federal Register on February 14, 2019, 84 FR 4082.

The National Institute of Nursing Research Initial Review Group meeting is being amended due to a change in the meeting date of June 20-21, 2019. This will be a one-day meeting, June 20th, 2019. The meeting time is 8:00 a.m. until 5:00 p.m. The meeting location will remain the same. The meeting is closed to the public.

Dated: May 24, 2019.
Natasha M. Copeland,
Program Analyst, Office of Federal Advisory Committee Policy.

[FR Doc. 2019-11341 Filed 5-30-19; 8:45 am]

BILLING CODE 4140-01-P